SECURITIES AND EXCHANGE COMMISSION

[Release No. 34-97764; File No. SR-CboeEDGX-2023-016]

Self-Regulatory Organizations; Cboe EDGX Exchange, Inc.; Notice of Withdrawal of a Proposed Rule Change To Amend Its Fee Schedule

June 20, 2023.

On March 1, 2023, Cboe EDGX Exchange, Inc. (“Exchange”) filed with the Securities and Exchange Commission (“Commission”), pursuant to Section 19(b)(1) of the Securities Exchange Act of 1934 (“Act”) ¹ and Rule 19b-4 thereunder,² a proposed rule change to amend its fee schedule. The proposed rule change was published for comment in the Federal Register on March 9, 2023.³ On April 28, 2023, the Commission temporarily suspended the proposed rule change and instituted proceedings to determine whether to approve or disapprove the proposed rule change.⁴ On June 14, 2023, the Exchange withdrew the proposed rule change (CboeEDGX-2023-016).

¹ 15 U.S.C. 78s(b)(1).

² 17 CFR 240.19b-4.

³ See Securities Exchange Act Release No. 97042 (March 3, 2023), 88 FR 14657. The comment letters received on the proposed rule change are available on the Commission's website at: https://www.sec.gov/comments/sr-cboeedgx-2023-016/srcboeedgx2023016.htm.

⁴ See Securities Exchange Act Release No. 97406, 88 FR 28641 (May 4, 2023).

⁵ 17 CFR 200.30-3(a)(12).

For the Commission, by the Division of Trading and Markets, pursuant to delegated authority.⁵
J. Matthew DeLesDernier,
Deputy Secretary.

[FR Doc. 2023-13450 Filed 6-23-23; 8:45 am]

BILLING CODE 8011-01-P